DEPARTMENT OF TRANSPORTATION

Federal Aviation Administration

Notice of Intent to Rule on Application 04-04-C-00-JHW To Impose and Use the Revenue From a Passenger Facility Charge (PRC) at Chautauqua County/Jamestown Airport, Jamestown, New York

AGENCY: Federal Aviation Administration (FAA), DOT.

ACTION: Notice of intent to rule on application.

SUMMARY: The FAA proposes to rule and invites public comment on the application to impose and use the revenue from a PFC at Chautauqua County/Jamestown Airport under the provisions of the 49 U.S.C. 40117 and Part 158 of the Federal Aviation Regulations (14 CFR Part 158).

DATES: Comments must be received on or before June 10, 2004.

ADDRESSES: Comments on this application may be mailed or delivered in triplicate to the FAA at the following address: New York Airports District Office, 600 Old Country Road, Suite 446, Garden City, New York, 11530.

In addition, one copy of any comments submitted to the FAA must be mailed or delivered to Kenneth B. Brentley, Director of Public Works of Chautauqua County, New York at the following address: 3163 Airport Drive, Jamestown, New York 14701.

Air carriers and foreign air carriers may submit copies of written comments previously provided to Chautauqua County, New York under 158.23 of Part 158.

FOR FURTHER INFORMATION CONTACT: Philip Brito, Manager, New York Airports District Office, 600 Old Country Road, Suite 446, Garden City, New York, 11530, (516) 227-3800. The application may be reviewed in person at this same location.

SUPPLEMENTARY INFORMATION: The FAA proposes to rule and invites public comment on the application to impose and use the revenue from a PFC at Chautauqua County/Jamestown Airport under the provisions of the 49 U.S.C. 40117 and Part 158 of the Federal Aviation Regulations (14 CFR Part 158).

On May 3, 2004, the FAA determined that the application to impose and use the revenue from a PFC submitted by Chautauqua County, New York was substantially complete within the requirements of section 158.25 of Part 158. The FAA will approve or disapprove the application, in whole or in part, no later than August 10, 2004.

The following is a brief overview of the application.

Proposed charge effective date: September 1, 2004.

Proposed charge expiration date: July 1, 2009.

Level of the proposed PFC: $4.50.

Total estimated PFC revenue: $200,112.

Brief description of proposed project(s):

1. Runway 7/25 Lighting Rehabilitation;

2. Rehabilitate General Aviation Apron;

3. Security Improvements;

4. Runway 13/31 Partial Parallel taxiway;

5. Preparation of Passenger Facility Charge Application.

Class or classes of air carriers which the public agency has requested not be required to collect PFCs: Nonscheduled/On-Demand Air Carriers Filing FAA From 1800-31.

Any person may inspect the application in person at the FAA office listed above under FOR FURTHER INFORMATION CONTACT and at the FAA regional Airports office located at: Federal Aviation Administration, Airports Division, 1 Aviation Plaza, Jamaica, New York 11434-4809.

In addition, any person may, upon request, inspect the application, notice and other documents germane to the application in person at the Chautauqua County, New York.

Issued in Garden City, New York, on May 3, 2004.
Philip Brito,
Manager, New York Airports District Office, Eastern Region.

[FR Doc. 04-10693 Filed 5-10-04; 8:45 am]

BILLING CODE 4910-13-M